INTERNATIONAL TRADE COMMISSION

[Investigation Nos. 701-TA-505 and 731-TA-1231, 1232, 1235, and 1237 (Final)]

Grain-Oriented Electrical Steel (“GOES”) From China, Czech Republic, Korea, and Russia

Supplemental schedule for the subject investigations.

AGENCY: United States International Trade Commission.

ACTION: Notice.

DATES: Effective Date: August 13, 2014.

FOR FURTHER INFORMATION CONTACT: Mary Messer (202-205-3193), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS) at http://edis.usitc.gov.

SUPPLEMENTARY INFORMATION: Effective May 9, 2013, the Commission established a schedule for the conduct of the final phase of the subject investigations (79 FR 32310, June 4, 2014). The Department of Commerce extended the date for its final determinations in the investigations concerning China, Czech Republic, Korea, and Russia to no later than 135 days after the publication of the preliminary determinations (79 FR 26936, May 12, 2014 (China); 79 FR 26717, May 9, 2014 (Czech Republic); 79 FR 26939, May 12, 2014 (Korea); and 79 FR 26941, May 12, 2014 (Russia)). The Commission, therefore, is supplementing its schedule to conform with Commerce's postponed schedule.

The Commission's supplemental schedule for the investigations is as follows: the deadline for filing party comments on Commerce's final determinations is October 2, 2014; the staff report in the final phase of these investigations will be placed in the nonpublic record on October 14, 2014, and a public version will be issued thereafter.

Supplemental party comments may address only Commerce's final determinations regarding imports from China, Czech Republic, Korea, and Russia. These supplemental final comments may not contain new factual information and may not exceed five (5) pages in length.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Issued: August 14, 2014.
Lisa R. Barton,
Secretary to the Commission.

[FR Doc. 2014-19716 Filed 8-19-14; 8:45 am]

BILLING CODE 7020-02-P